DEPARTMENT OF ENERGY

Federal Energy Regulatory Commission

[Docket No. EL08-16-000]

Mississippi Power Company; Notice of Institution of Proceeding and Refund Effective Date

December 21, 2007.

On December 21, 2007, the Commission issued an order that instituted a proceeding in the above-referenced docket, pursuant to section 206 of the Federal Power Act (FPA) 16 U.S.C. 824e, to review Mississippi Power Company's request for authorization to update its depreciation rates. Mississippi Power Company, 121 FERC ¶ 61,261 (2007).

The refund effective date, established pursuant to section 206(b) of the Federal Power Act, will be the date of publication of this notice in the Federal Register.

Kimberly D. Bose,
Secretary.

[FR Doc. E8-46 Filed 1-7-08; 8:45 am]

BILLING CODE 6717-01-P